DEPARTMENT OF THE INTERIOR

Fish and Wildlife Service

[FWS-HQ-IA-2014-N004; FXIA16710900000-145-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) the application was filed in good faith, (2) the granted permit would not operate to the disadvantage of the endangered species; and (3) the granted permit would be consistent with the purposes and policy set forth in section 2 of the ESA.

Endangered Species
Permit No. | Applicant | Receipt of application Federal Register notice | Permit issuance date
93277A | Busch Gardens | 78 FR 25296; April 30, 2013 | June 27, 2013.
00002B | San Diego Zoological Society | 78 FR 44961; July 25, 2013 | September 20, 2013.
01604B | Association for the Conservation of Threatened Parrots, Inc. | 78 FR 45954; July 30, 2013 | October 25, 2013.
06267B | Paul Fiedler | 78 FR 45954; July 30, 2013 | September 12, 2013.
08059B | Feld Entertainment, Inc. | 78 FR 45954; July 30, 2013 | November 15, 2013.
10814B | Larry Bell | 78 FR 45954; July 30, 2013 | September 12, 2013.
73008A | University of South Carolina | 78 FR 50083; August 16, 2013 | October 24, 2013.
10934B & 11018B | Phoenix Herpetological Society | 78 FR 52966; August 27, 2013 | November 01, 2013.
13916B | Larry Vaden | 78 FR 53474; August 29, 2013 | October 17, 2013.
13585B | Blake Corrigan | 78 FR 53474; August 29, 2013 | October 17, 2013.
13144B | Coby Bausch | 78 FR 54479; September 4, 2013 | November 5, 2013.
10766B | Dr. Christopher D. Marshall, Texas A & M University | 78 FR 56924; September 16, 2013 | November 13, 2013.
11850B | Volusia Co. Marine Science Center | 78 FR 59052; September 25, 2013 | October 28, 2013.
16912B | Daniel Saab Salem | 78 FR 62647; October 22, 2013 | November 22, 2013.

Availability of Documents

Documents and other information submitted with these applications are available for review, subject to the requirements of the Privacy Act and Freedom of Information Act, by any party who submits a written request for a copy of such documents to: Division of Management Authority, U.S. Fish and Wildlife Service, 4401 North Fairfax Drive, Room 212, Arlington, VA 22203; fax (703) 358-2280.

Brenda Tapia,
Program Analyst/Data Administrator, Branch of Permits, Division of Management Authority.

[FR Doc. 2014-00349 Filed 1-10-14; 8:45 am]

BILLING CODE 4310-55-P